DEPARTMENT OF ENERGY

Federal Energy Regulatory Commission

[Docket No. RM18-9-000; Docket No. AD18-10-000]

Participation of Distributed Energy Resource Aggregations in Markets Operated by Regional Transmission Organizations and Independent System Operators; Distributed Energy Resources-Technical Considerations for the Bulk Power System; Further Supplemental Notice of Technical Conference

As announced in a Notice of Technical Conference issued on February 15, 2018 and a Supplemental Notice of Technical Conference issued on March 29, 2018, Federal Energy Regulatory Commission (Commission) staff will hold a technical conference on Tuesday, April 10, 2018 and Wednesday, April 11, 2018, to discuss the participation of distributed energy resource (DER) aggregations in Regional Transmission Organization (RTO) and Independent System Operator (ISO) markets and to more broadly discuss the potential effects of DERs on the bulk power system. On April 10, 2018, the conference will commence at 10:15 a.m. and end at 4:45 p.m. On April 11, 2018, the conference will commence at 9:00 a.m. and end at 5:00 p.m. The conference will be held at the Federal Energy Regulatory Commission, 888 First Street NE, Washington, DC 20426. Commissioners will lead the second panel of the technical conference. Commission staff will lead the other six panels, and Commissioners may attend.

The updated agenda for this technical conference is attached. All changes to the agenda since the Commission's March 29, 2018 Supplemental Notice of Technical Conference appear in italics.

All interested persons may attend the conference, and registration is not required. However, in-person attendees are encouraged to register on-line by April 3, 2018 at: https://www.ferc.gov/whats-new/registration/04-10-18-form.asp. In-person attendees should allow time to pass through building security procedures before the start time of the technical conference.

The Commission will transcribe and webcast this conference. Transcripts will be available immediately for a fee from Ace Reporting (202-347-3700). A link to the webcast of this event will be available in the Commission Calendar of Events at www.ferc.gov. The Capitol Connection provides technical support for the webcasts and offers the option of listening to the conference via phone-bridge for a fee. For additional information, visit www.CapitolConnection.org or call (703) 993-3100.

While this conference is not for the purpose of discussing specific cases, it may address matters at issue in the following Commission proceedings that are pending:

• Advanced Energy Economy, Docket No. EL17-75-001

• Southern California Edison Company, Docket No. ER18-1248-000

Commission conferences are accessible under section 508 of the Rehabilitation Act of 1973. For accessibility accommodations please send an email to accessibility@ferc.gov or call toll free 1-866-208-3372 (voice) or 202-208-8659 (TTY), or send a fax to 202-208-2106 with the required accommodations.

For more information about this technical conference, please contact David Kathan at (202) 502-6404, david.kathan@ferc.gov, or Louise Nutter at (202) 502-8175, louise.nutter@ferc.gov. For information related to logistics, please contact Sarah McKinley at (202) 502-8368, sarah.mckinley@ferc.gov.

Dated: April 9, 2018.
Kimberly D. Bose,
Secretary.

[FR Doc. 2018-07781 Filed 4-13-18; 8:45 am]

BILLING CODE 6717-01-P